DEPARTMENT OF HEALTH AND HUMAN SERVICES

Health Resources and Services Administration

Recruitment of Sites for Assignment of Corps Personnel Obligated Under the National Health Service Corps Loan Repayment Program (FY 2011)

AGENCY: Health Resources and Services Administration, HHS.

ACTION: General notice.

SUMMARY: The Health Resources and Services Administration (HRSA) announces that the listing of entities, and their Health Professional Shortage Area (HPSA) scores, that will receive priority for the assignment of National Health Service Corps (NHSC) Loan Repayors (Corps Personnel, Corps members) during the period October 1, 2010, through September 30, 2011, is posted on the HRSA Web site at http://datawarehouse.hrsa.gov/HGDWReports/OneClickRptFilter.aspx?rptName=NHSCAppSiteList&rptFormat=HTML3.2. This list specifies which entities are eligible to receive assignment of Corps members who are participating in the NHSC Loan Repayment Program (LRP), and Corps members who have become Corps members other than pursuant to contractual obligations under the LRP. Please note that not all vacancies associated with sites on this list will be for Corps members, but could be for individuals serving an obligation to the NHSC LRP through the Private Practice Option.

Eligible HPSAs and Entities

To be eligible to receive assignment of Corps personnel, entities must: (1) Have a current HPSA designation by the Office of Shortage Designation, Bureau of Health Professions, HRSA; (2) not deny requested health care services, or discriminate in the provision of services to an individual because the individual is unable to pay for the services or because payment for the services would be made under Medicare, Medicaid, or the Children's Health Insurance Program; (3) enter into an agreement with the State agency that administers Medicaid and the Children's Health Insurance Program, accept assignment under Medicare, see all patients regardless of their ability to pay, and use and post a discounted fee plan; and (4) be determined by the Secretary to have (a) A need and demand for health manpower in the area; (b) appropriately and efficiently used Corps members assigned to the entity in the past; (c) general community support for the assignment of Corps members; (d) made unsuccessful efforts to recruit; (e) a reasonable prospect for sound fiscal management by the entity with respect to Corps members assigned there; and (f) demonstrated a willingness to support and facilitate mentorship, professional development and training opportunities for Corps members. Priority in approving applications for assignment of Corps members goes to sites that (1) provide primary medical care, mental health, or oral health services to a primary medical care, mental health, or dental HPSA of greatest shortage, respectively; (2) are part of a system of care that provides a continuum of services, including comprehensive primary health care and appropriate referrals or arrangements for secondary and tertiary care; (3) have a documented record of sound fiscal management; and (4) will experience a negative impact on its capacity to provide primary health services if a Corps member is not assigned to the entity. In order for a site to be eligible for placement of NHSC personnel, it must be approved by the NHSC through the successful submission of a Site Application. The Site Application approval is good for a period of 3 years from the date of approval.

Entities that receive assignment of Corps personnel must assure that (1) the position will permit the full scope of practice and that the clinician meets the credentialing requirements of the State and site; and (2) the Corps member assigned to the entity is engaged in the requisite amount of clinical service, as defined below, to meet his or her service obligation:

Full-time clinical practice

“Full-time clinical practice” is defined as a minimum of 40 hours per week for at least 45 weeks per service year. The 40 hours per week may be compressed into no less than 4 work days per week, with no more than 12 hours of work to be performed in any 24-hour period. Time spent on-call does not count toward the full-time service obligation.

For all health professionals, except as noted below, at least 32 of the minimum 40 hours per week must be spent providing direct patient care or teaching in the outpatient ambulatory care setting(s) at the NHSC-approved service site(s) during normally scheduled office hours. The remaining 8 hours per week must be spent providing clinical services for patients or teaching in the approved practice site(s), providing clinical services in alternative settings as directed by the approved practice site(s), or performing practice-related administrative activities. Teaching activities at the approved service site shall not exceed 8 hours of the minimum 40 hours per week, unless the teaching takes place in a HRSA-approved Teaching Health Center. Teaching activities in a Teaching Health Center shall not exceed 20 hours of the minimum 40 hours per week.

For obstetrician/gynecologists, certified nurse midwives (CNMs), family medicine physicians who practice obstetrics on a regular basis, providers of geriatric services, pediatric dentists, and behavioral/mental health providers, at least 21 of the minimum 40 hours per week must be spent providing direct patient care or teaching in the outpatient ambulatory care setting(s) at the NHSC-approved service site(s), during normally scheduled office hours. The remaining 19 hours per week must be spent providing clinical services for patients or teaching in the approved practice site(s), providing clinical services in alternative settings as directed by the approved practice site(s), or performing practice-related administrative activities. No more than 8 hours per week can be spent performing practice-related administrative activities. Teaching activities at the approved service site shall not exceed 8 hours of the minimum 40 hours per week, unless the teaching takes place in a HRSA-approved Teaching Health Center. Teaching activities in a Teaching Health Center shall not exceed 20 hours of the minimum 40 hours per week.

Half-Time Clinical Practice

“Half-time clinical practice” is defined as a minimum of 20 hours per week (not to exceed 39 hours per week), for at least 45 weeks per service year. The 20 hours per week may be compressed into no less than 2 work days per week, with no more than 12 hours of work to be performed in any 24-hour period. Time spent on-call does not count toward the half-time service obligation.

For all health professionals, except as noted below, at least 16 of the minimum 20 hours per week must be spent providing direct patient care in the outpatient ambulatory care setting(s) at the NHSC-approved service site(s), during normally scheduled office hours. The remaining 4 hours per week must be spent providing clinical services for patients or teaching in the approved practice site(s), providing clinical services in alternative settings as directed by the approved practice site(s), or performing practice-related administrative activities. Teaching and practice-related administrative activities shall not exceed a total of 4 hours of the minimum 20 hours per week.

For obstetrician/gynecologists, certified nurse midwives (CNMs), family medicine physicians who practice obstetrics on a regular basis, providers of geriatric services, pediatric dentists, and behavioral/mental health providers, at least 11 of the minimum 20 hours per week must be spent providing direct patient care in the outpatient ambulatory care setting(s) at the NHSC-approved service site(s), during normally scheduled office hours. The remaining 9 hours per week must be spent providing clinical services for patients or teaching in the approved practice site(s), providing clinical services in alternative settings as directed by the approved practice site(s), or performing practice-related administrative activities. Teaching and practice-related administrative activities shall not exceed 4 hours of the minimum 20 hours per week.

In addition to utilizing NHSC assignees in accordance with their full-time or half-time service obligation (as defined above), sites receiving assignment of Corps personnel are expected to (1) Report to the NHSC all absences, including those in excess of the authorized number of days (up to 285 work hours per service year in the case of full-time service and up to 142 hours per service year in the case of half-time service); (2) report to the NHSC any change in the status of an NHSC clinician at the site; (3) provide the time and leave records, schedules, and any related personnel documents for the NHSC assignees (including documentation, if applicable, of the reason(s) for the termination of an NHSC clinician's employment at the site prior to his or her obligated service end date); and (4) submit a Uniform Data System (UDS) report. The UDS allows the site to assess the age, sex, race/ethnicity of, and provider encounter records for its user population. The UDS reports are site specific. Providers fulfilling NHSC commitments are assigned to a specific site or, in some cases, more than one site. The scope of activity to be reported in UDS includes all activity at the site(s) to which the Corps member is assigned.

Evaluation and Selection Process

In approving applications for the assignment of Corps members, the Secretary shall give priority to any such application that is made regarding the provision of primary health services to a HPSA with the greatest shortage. For assignments made under the NHSC LRP resulting from loan repayment awards made using FY 2011 funding from October 1, 2010, to September 30, 2011, HPSAs of greatest shortage for determination of priority for assignment of Corps personnel will be defined as follows: HPSAs (appropriate to each discipline) with scores of 10 and above are authorized for priority assignment of Corps members who are participating in the LRP. HPSAs with scores below 10 will be eligible to receive assignment of Corps personnel participating in the LRP only after assignments are made of those Corps members matching to HPSAs receiving priority for placement of Corps members through the LRP (i.e., HPSAs scoring 10 or above). Placement made through the Loan Repayment Program in HPSAs with scores below 10 will be made by decreasing HPSA score, and only to the extent that funding remains available. All sites on the list are eligible sites for “volunteers”—i.e., individuals wishing to serve in an underserved area but who are not contractually obligated under the NHSC Scholarship or Loan Repayment Programs. A listing of HPSAs and their scores is posted at http://hpsafind.hrsa.gov/.

In order to implement the statutory directive to place NHSC clinicians in the highest need areas and to assure appropriate geographic distribution of NHSC resources, the number of new NHSC LRP placements (full-time or half-time) allowed at any one site during FY 2011 is limited to the following:

HPSA Score: 0-9

Primary Medical Care

No more than 12 allopathic (MD) or osteopathic (DO) physicians; and no more than a combined total of 12 nurse practitioners (NPs), physician assistants (PAs), or CNMs.

Dental

No more than 12 dentists and 12 dental hygienists.

Mental Health

No more than 12 psychiatrists (MD or DO); and no more than a combined total of 12 health service psychologists (clinical or counseling psychologists), licensed clinical social workers, licensed professional counselors, marriage and family therapists, or psychiatric nurse specialists.

HPSA Score: 10-13

Primary Medical Care

No more than 15 allopathic (MD) or osteopathic (DO) physicians; and no more than a combined total of 15 NPs, PAs, or CNMs.

Dental

No more than 15 dentists and 15 dental hygienists.

Mental Health

No more than 15 psychiatrists (MD or DO); and no more than a combined total of 15 health service psychologists (clinical or counseling psychologists), licensed clinical social workers, licensed professional counselors, marriage and family therapists, or psychiatric nurse specialists.

HPSA Score: 14-26

Primary Medical Care

No more than 18 allopathic (MD) or osteopathic (DO) physicians; and no more than a combined total of 18 NPs, PAs, or CNMs.

Dental

No more than 18 dentists and 18 dental hygienists.

Mental Health

No more than 18 psychiatrists (MD or DO); and no more than a combined total of 18 health service psychologists (clinical or counseling psychologists), licensed clinical social workers, licensed professional counselors, marriage and family therapists, or psychiatric nurse specialists.

Application Requests, Dates, and Address

The list of HPSAs and entities that are eligible to receive priority for the placement of Corps personnel may be updated periodically. Entities that no longer meet eligibility criteria, including those sites whose NHSC 3-year approval has lapsed or whose HPSA designation is withdrawn, will be removed from the priority listing. New entities interested in being added to the high priority list must submit a Site Application to: National Health Service Corps, 5600 Fishers Lane, Room 8A-30, Rockville, MD 20857, fax 301-594-2721. These applications must be postmarked on or before the submission deadline date of June 30, 2011. Applications submitted by clinicians for loan repayment will be processed as they are received. Applicants must be employed, or be starting employment within 30 days of their NHSC LRP application, at an entity with a currently approved Site Application, in order to be selected for an LRP award. Therefore, we strongly encourage all sites to have current NHSC-approved Site Applications and vacancies on file. Site applications submitted after June 30, 2011 will be considered for placement on the priority list in the following application cycle.

Entities interested in receiving application materials may do so by calling the HRSA call center at 1-800-221-9393. They may also get information and download application materials from: http://nhsc.hrsa.gov/communities/apply.htm.

Additional Information

Entities wishing to provide additional data and information in support of their inclusion on the proposed list of HPSAs and entities that would receive priority in assignment of Corps members, must do so in writing no later than [30 days after FRN publish date]. This information should be submitted to: Marty Bond, Chief, Site and Community Development Branch, Division of Site and Clinician Recruitment, Bureau of Clinician Recruitment and Service, 5600 Fishers Lane, Room 8A-55, Rockville, MD 20857. This information will be considered in preparing the final list of HPSAs and entities that are receiving priority for the assignment of Corps personnel.

Paperwork Reduction Act: The Site Application has been approved by the Office of Management and Budget under the Paperwork Reduction Act. The OMB clearance number is 0915-0230 and expires September 30, 2011.

The program is not subject to the provisions of Executive order 12372, Intergovernmental Review of Federal Programs (as implemented through 45 CFR part 100).

Dated: October 25, 2010.
Mary K. Wakefield,
Administrator.

[FR Doc. 2010-28083 Filed 11-4-10; 8:45 am]

BILLING CODE 4165-15-P